DEPARTMENT OF DEFENSE

Department of the Army

Information on Surplus Land at a Military Installation Designated for Disposal: Ernest Veuve Hall USARC/AMSA 75, T-25, Fort Missoula, Montana

AGENCY: Department of the Army, DoD.

ACTION: Notice.

SUMMARY: This amended notice provides information on withdrawal of surplus property at the Ernest Veuve Hall USARC/AMSA 75, T-25, Fort Missoula, Montana. This notice amends the Notice published in the Federal Register on May 9, 2006 (71 FR 26930).

DATES: Effective September 10, 2013

FOR FURTHER INFORMATION CONTACT: Headquarters, Department of the Army, Assistant Chief of Staff for Installation Management, Base Realignment and Closure (BRAC) Division, Attn: DAIM-BD, 600 Army Pentagon, Washington DC 20310-0600, (703) 545-1318. For information regarding the specific property listed below, contact the Army BRAC Division at the mailing address above or at ArmyBRAC2005@hqda.army.mil.

SUPPLEMENTARY INFORMATION: In 2005, the Ernest Veuve Hall USARC and AMSA75 were designated for closure under the authority of the Defense Base Closure and Realignment Act of 1990, Pub. L. No. 101-510, as amended. On May 9, 2006, the Department of Army published a Notice in the Federal Register (71 FR 26930) that property at this installation was declared surplus to the needs of the Federal Government. Property previously reported as surplus is now required by the Federal Government for United States Forest Service operations and National Guard Bureau activities.

Surplus Property List:

Deletion: Ernest Veuve Hall USARC/AMSA 75, T-25, Fort Missoula.

Authority: This action is authorized by the Defense Base Closure and Realignment Act of 1990, Pub. L. 101-510, as amended.

Dated: August 28, 2013.
Paul D. Cramer,
Deputy Assistant Secretary of the Army (Installations, Housing and Partnerships).

[FR Doc. 2013-23332 Filed 9-24-13; 8:45 am]

BILLING CODE 3710-08-P